DEPARTMENT OF TRANSPORTATION

Federal Aviation Administration

[Docket No. FAA-2022-1711]

Agency Information Collection Activities: Requests for Comments; Clearance of Renewed Approval of Information Collection: Carbon Offsetting and Reduction Scheme for International Aviation (CORSIA) Monitoring, Reporting, and Verification (MRV) Program

AGENCY: Federal Aviation Administration (FAA), DOT.

ACTION: Notice and request for comments.

SUMMARY: In accordance with the Paperwork Reduction Act of 1995, FAA invites public comments about our intention to request Office of Management and Budget (OMB) approval to renew an information collection. The collection involves a request that airplane operators subject to the applicability of Annex 16, Volume IV of the Convention on Civil Aviation (hereinafter the “Chicago Convention”) submit electronically an Emissions Monitoring Plan (EMP), an annual Emissions Report (ER) to the FAA. Airplane operators may also submit an optional ER CORSIA Eligible Fuels Annex (CEFA) to the FAA if they want to receive credit for their use of CORSIA Eligible Sustainable Aviation Fuel (SAF) or Lower Carbon Aviation Fuel (LCAF). The information to be collected is necessary because FAA will use the information to fulfill the United States' responsibilities under the Chicago Convention

DATES: Written comments should be submitted by March 27, 2023.

ADDRESSES: Please send written comments:

By Electronic Docket: www.regulations.gov (Enter docket number into search field).

By mail: Kevin Partowazam, Federal Aviation Administration, AEE-5, 800 Independence Ave. SW, Washington, DC 20591.

FOR FURTHER INFORMATION CONTACT: Kevin Partowazam by email at: kevin.partowazam@faa.gov; phone: 202-267-3563.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0790.

Title: CORSIA Monitoring, Reporting, and Verification (MRV) Program.

Form Numbers: 1. Emissions Monitoring Plan (EMP) Template; 2. Emissions Report (ER) Template; 3. ER CORSIA Eligible Fuels Annex (CEFA).

Type of Review: Clearance of a renewal of an information collection.

Background: The CORSIA MRV Program is a voluntary program for certain U.S. air carriers and commercial operators (collectively referred hereinafter as “operators”) to submit certain airplane CO2 emissions data to the FAA to enable the United States to establish uniformity with ICAO Standards And Recommended Practices (SARPs) for CORSIA, which were adopted in June 2018, as Annex 16, Volume IV to the Chicago Convention. The United States supported the decision to adopt the CORSIA SARPs based on the understanding that CORSIA is the exclusive market-based measure applying to international aviation, and that CORSIA will ensure fair and reciprocal commercial competition by avoiding a patchwork of country- or regionally-based regulatory measures that are inconsistently applied, bureaucratically costly, and economically damaging. Furthermore, continued U.S. support for CORSIA assumes a high level of participation by other countries, particularly by countries with significant aviation activity, as well as a final CORSIA package that is acceptable to, and implementable by, the United States.

Under CORSIA, all ICAO Member States whose airplane operators undertake international flights will have needed to develop an MRV system for CO2 emissions from those international flights starting January 1, 2019. The FAA's CORSIA MRV Program is intended to be the United States' MRV system for monitoring, reporting, and verification of U.S. airplane operator CO2 emissions from international flights.

Operators that are subject to the applicability of CORSIA will submit their EMPs, ERs, and ER CEFAs electronically.¹

¹ CORSIA applies to airplane operators that produce annual CO2 emissions greater than 10,000 tonnes (i.e., 10,000 metric tons) from international flights, excluding emissions from excluded flights. The following activities are excluded CORSIA:

—Domestic flights;

—Humanitarian, medical, and firefighting operations, including flight(s) preceding or following a humanitarian, medical, or firefighting flight provided such flight(s) were conducted with the same airplane, were required to accomplish the related humanitarian, medical, or firefighting activities or to reposition thereafter the airplane for its next activity;

—Operations using an airplane with a maximum certificated take-off mass equal to or less than 5,700 kg;

—Operations on behalf of the military.

Each document uses Microsoft Excel-based templates and can be transmitted via email or uploaded to a web portal. EMPs that are submitted by operators will be used as a collaborative tool between the operator and FAA to document a given operator's chosen fuel use monitoring procedures. FAA will retain a copy of the EMP and will share with ICAO a list of operators that submit EMPs. FAA will not submit any specific EMPs from U.S. operators to ICAO. Large operators, i.e., those emitting 500,000 metric tons or more of CO2 per year, will gather data through a “fuel use monitoring method.” Small operators, i.e., those emitting less than 500,000 metric tons of CO2 per year, can use a simplified monitoring method. Annual ERs and optional ER CEFAs that are submitted to FAA by operators and verifiers will be used to document each operators' international emissions. FAA will use the ERs and ER CEFAs to calculate aggregated emissions data for all U.S. operators. FAA will submit the aggregated emissions data to ICAO to demonstrate U.S. implementation of CORSIA.

Respondents: Respondents will be airplane operators subject to the applicability of Annex 16, Volume IV of the Chicago Convention. Since the CORSIA MRV Program was originally launched, FAA received 30 EMPs from participating operators, along with an annual ER from each. Some additional operators could submit an EMP and ER over time based on their international aviation activities.

Frequency: An EMP is a one-time submission. An ER, and optional ER CEFA, is an annual submission.

Estimated Average Burden per Response: FAA expects that filling and submitting an EMP could take an average of approximately 28.6 hours per operator. FAA expects that for operators using a Fuel Use Monitoring Method, the reporting hour burden could be approximately 47.5 hours per operator, per year. For operators using a simplified Monitoring Method, the reporting hour burden could be approximately 16 hours per operator, per year.

Estimated Total Annual Burden: Based on the above, FAA expects that the average annual submission of an ER could take approximately 49.4 hours per operator, per year. For operators using a Fuel Use Monitoring Method, this includes 60 hours per operator, per year for filling and reporting an ER and an additional potential 8 hours for filling and reporting the ER CEFA. For operators using simplified Monitoring Methods, this includes 17.5 hours per operator, per year for filling and reporting an ER and an additional potential 4 hours for filling and reporting the ER CEFA.

Issued in Washington, DC, on January 19, 2023.
Kevin Welsh,
Executive Director, Office of Environment and Energy.

[FR Doc. 2023-01405 Filed 1-24-23; 8:45 am]

BILLING CODE 4910-13-P